ENVIRONMENTAL PROTECTION AGENCY

[FRL-6915-2]

Agency Information Collection Activities: Proposed Collection; Comment Request; Emission Certification and Participation in AB&T for Nonroad CI Engines and Nonroad SI Engines at or Below 19 kW

AGENCY: Environmental Protection Agency (EPA).

ACTION: Notice.

SUMMARY: In compliance with the Paperwork Reduction Act (44 U.S.C. 3501 et seq.), this document announces that EPA is planning to submit the following continuing Information Collection Requests (ICR) to the Office of Management and Budget (OMB): Non-road Compression-ignition Engine and On-road Heavy Duty Engine Application for Emission Certification, and Participation in the Averaging, Banking, and Trading Program, EPA ICR Number 1851.03, OMB Control Number 2060-0404, expiration date: 7/31/02, renewal; Application for Engine Emission Certification and Averaging, Banking, and Trading for New Nonroad Spark-ignition (SI) Engines At or Below 19 kilowatts, EPA Number 1695.06, OMB Control Number 2060-0338, expiring on 11/30/00, renewal.

Before submitting the ICR to OMB for review and approval, EPA is soliciting comments on specific aspects of the proposed information collection as described below.

DATES: Comments must be submitted on or before February 9, 2001.

ADDRESSES: Office of Transportation and Air Quality, Certification and Compliance Division, Engine Programs Group, Ariel Ríos Building, 1200 Pennsylvania Ave., NW., Mail Code 6403J, Washington, DC 20460. Interested persons may request a copy of the ICRs without charge from the contact person below.

FOR FURTHER INFORMATION CONTACT: Nydia Y. Reyes-Morales, tel.: (202) 564-9264; fax: (202) 565-2057; e-mail: reyes-morales.nydia@epa.gov

SUPPLEMENTARY INFORMATION: Affected entities: Entities potentially affected by this action are those which manufacture nonroad compression-ignition engines or nonroad spark ignition engines at or below 19 kW.

Title: Non-road Compression-ignition Engine and On-road Heavy Duty Engine Application for Emission Certification, and Participation in the Averaging, Banking, and Trading Program, EPA ICR Number 1851.03, OMB Control Number 2060-0404, expiration date: 7/31/2002. Although this ICR expires in 2002, we are renewing it now to include the requirements of ICR No.1684.04, Amendment to the Information Collection Request Compression Ignition Non-Road Engine Certification Application (OMB No. 2060-0287), which expires on 11/30/00. Both ICRs include burden associated with the emission certification and AB&T programs for non-road compression-ignition engines. However, ICR No. 1851 includes the burden for engines rated over 37 kW (50 Hp), whereas ICR No. 1684 includes the burden for engines under 37 kW. There are no major differences between the two categories, except that they became regulated at different times. With this consolidation, we combine all the burden associated with the certification and AB&T programs for non-road compression-ignition engines. See below for a description of the collection.

Title: Nonroad Spark Ignition (SI) Engines At or Below 19 kilowatts Certification Application and Participation in the Averaging, Banking, and Trading Program, (OMB Control Number 2060-0338; EPA ICR No.1695.06), expiring on 11/30/00.

Abstract: Both of these information collections (ICR Nos. 1851.03 and 1695.06) are requested under the authority of Title II of the Clean Air Act (42 U.S.C. 7521 et seq.). Under this Title, EPA is charged with issuing certificates of conformity for those engines which comply with applicable emission standards. Such a certificate must be issued before engines may be legally introduced into commerce. To apply for a certificate of conformity, manufacturers are required to submit descriptions of their planned production line, including detailed descriptions of the emission control system, and test data. This information is organized by “engine family” groups expected to have similar emission characteristics. There are also recordkeeping and labeling requirements.

Those manufacturers electing to participate in the Averaging Banking and Trading Program for either non-road compression ignition engines or spark ignition engines at or below 19 kilowatts are also required to submit information regarding the calculation of projected and actual generation and usage of credits in an initial report, end-of-the-year report and final report. These reports are used for certification and enforcement purposes. Manufacturers need to maintain records for eight years on the engine families participating in the program.

All the information requested by these collections is required for various programs' implementation and activities. The information is collected by the Engine Programs Group, Certification and Compliance Division, Office of Transportation and Air Quality, Office of Air and Radiation. Certification information submitted by manufacturers is held as confidential until the specific engine to which it pertains is available for purchase. Confidentiality of proprietary information is granted in accordance with the Freedom of Information Act, EPA regulations at 40 CFR 2, and class determinations issued by EPA's Office of General Counsel. An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Table I.—Burden Statement
ICR | Estimated average burden hours/ response | Frequency | Number of respondents (#engine families) | Cost per response | Capital and start up cost | Operation/maintenance costs | Purchase of services cost
Emission Certification:
On-road HDE* | 327.0 | 1 | 20 (152) | $23,304.00 | 0 | $14,746.00 | 0
Non-road CI >50 Hp* | 199.7 | 1 | 46 (202) | 13,127.50 | 0 | 9.00 | 0
Non-road CI >50 Hp | 400.0 | 1 | 23 (200) | 20,000.00 |  | 9.00 |
AB&T:
On-road HDE | 333 | 1 | 7 | 23,310.00 | 0 | 0 | 0
>50 Hp* | 460 | 1 | 5 | 32,169.00 | 0 | 0 | 0
<50 Hp | 460 | 1 | 0 | 32,169.00 | 0 | 0 | 0
SI Certification | 256 | 1 | 50 (220) | 16,847.50 | 0 | 9.00 | 0
SI AB&T | 113 | 1 | 50 | 6,884.00 | 0 | 0 | 0
* Burden already approved by OMB.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: December 2, 2000.
Robert Perciasepe,
Assistant Administrator for Air and Radiation.

[FR Doc. 00-31482 Filed 12-8-00; 8:45 am]

BILLING CODE 6560-50-P